DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Marine Recreational Fisheries Statistics Survey.

OMB Approval Number: 0648-0052.

Form Number(s): None.

Type of Request: Regular submission.

Burden Hours: 272 new burden hours.

Number of Respondents: 3,750 new respondents.

Average Hours per Response: 1 minute for anglers with no trips in past year; 7 minutes for anglers with trips in past year.

Needs and Uses: Recent amendments to the Magnuson-Stevens Fishery Conservation and Management Act require that the Marine Recreational Fisheries Statistics Survey (MRFSS) be upgraded and that future fishing surveys target anglers licensed or registered at the State or Federal level. This revision is requested to expand previously approved angler license directory surveys (ALDS) into North Carolina, which recently implemented a saltwater fishing license. Information collected through the ALDS will be integrated with data collected through the MRFSS Coastal Household Telephone Survey in a dual-frame approach to provide more complete coverage of the angling population. The results of this data collection effort will be used to calculate bi-monthly estimates of marine recreational fishing participation, effort and catch.

Affected Public: Individuals or households.

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: December 19, 2007.
Gwellnar Banks,
Management Analyst, Office of the Chief Information Officer.

[FR Doc. E7-24980 Filed 12-26-07; 8:45 am]

BILLING CODE 3510-22-P